DEPARTMENT OF HEALTH AND HUMAN SERVICES

Centers for Disease Control and Prevention

Public Webinar: National Public Health Strategy for the Prevention and Control of Vector-Borne Diseases in People

AGENCY: Centers for Disease Control and Prevention (CDC), Department of Health and Human Services (HHS).

ACTION: Notice of public webinar.

SUMMARY: The Centers for Disease Control and Prevention (CDC), within the Department of Health and Human Services (HHS), is announcing a closed meeting and public webinar to share information on the National Public Health Strategy for the Prevention and Control of Vector-Borne Diseases in People (VBD National Strategy). The full meeting will be by invitation only to ensure representation and inclusion of researchers, clinicians, public health officials, vector control officials, and patient advocates. However, the public is invited to listen virtually to the opening and closing sessions (attendance via livestream is unlimited).

DATES: The public webinar will be held on May 23, 2024, from 10:00 a.m. to 11:00 a.m. and 3:00 p.m. to 4:00 p.m., Eastern time.

ADDRESSES: The public webinar will be available by livestream. To access the meeting visit this page on the day of the event: https://www.hhs.gov/live/index.html.

FOR FURTHER INFORMATION CONTACT: Sue Visser, DrPH, MS, Deputy Director for Policy and Extramural Program; Fort Collins, CO (Offices and Laboratories), 3156 Rampart Road, Fort Collins, CO 80521; Telephone: 404-498-3008; Email: vbdstrategy@cdc.gov.

SUPPLEMENTARY INFORMATION:

Background: Leaders from CDC's Division of Vector-Borne Disease (DVBD) will host an in-person and online meeting about the National Public Health Strategy for the Prevention and Control of Vector-Borne Diseases in People (VBD National Strategy). The VBD National Strategy was developed by the Department of Health and Human Services in response to congressional direction in the Kay Hagan Tick Act, passed as part of the Further Consolidated Appropriations Act, 2020 (Pub. L. 116-94). The primary purpose of the meeting is to increase awareness of the VBD National Strategy and inform future implementation efforts.

The public is invited to attend the opening and closing sessions of the meeting. In the opening session, speakers will describe the VBD National Strategy and federal agency representatives will present 2023 success stories. After the opening session, invited participants will participate in a set of interactive activities to collect individual opinions from a range of invited meeting participants with vector-borne disease experience. The public will be invited to a closing session at which time a summary of the interactive sessions will be shared.

This meeting follows previous public engagement activities, including the two Requests for Information previously published in the Federal Register on April 27, 2021, (86 FR 23391) and November 21, 2022, (87 FR 70836). Additional information and public comments can be found on www.regulations.gov in dockets HHS-OASH-2021-0012 and HHS-OASH-2022-0019.

Public Webinar: The opening and closing sessions will be open to the public to an unlimited number of viewers via livestream.

Noah Aleshire,
Chief Regulatory Officer, Centers for Disease Control and Prevention.

[FR Doc. 2024-09774 Filed 5-3-24; 8:45 am]

BILLING CODE 4163-18-P